FEDERAL COMMUNICATIONS COMMISSION

Notice of Public Information Collection(s) Being Reviewed by the Federal Communications Commission

December 7, 2001.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before January 22, 2002. If you anticipate that you will be submitting comments, but find it difficult to do so within the period of time allowed by this notice, you should advise the contact listed below as soon as possible.

ADDRESSES: Direct all comments to Judy Boley, Federal Communications Commission, Room 1-C804, 445 12th Street, SW, Washington DC 20554 or via the Internet to jboley@fcc.gov.

FOR FURTHER INFORMATION CONTACT: For additional information or copies of the information collection(s), contact Judy Boley at 202-418-0214 or via the Internet at jboley@fcc.gov.

SUPPLEMENTARY INFORMATION: OMB Control No.: 3060-0298.

Title: Part 61—Tariffs (Other Than Tariff Review Plan).

Form No.: N/A.

Type of Review: Extension of a currently approved collection.

Respondents: Businesses or other for-profit.

Number of Respondents: 2,000 respondents; 3,000 responses.

Estimated Time Per Response: 20-43 hours.

Frequency of Response: On occasion, annual and biennial reporting requirements and third party disclosure requirement.

Total Annual Burden: 135,000 hours.

Total Annual Cost: $2,161,000.

Needs and Uses: Part 61 is designed to ensure that all tariffs filed by common carriers are formally sound, well organized, and provide the Commission and the public with sufficient information to determine the justness and reasonableness as required by the Act, of the rates terms and conditions in those tariffs. In the Seventh Report and Order in CC Docket No. 96-262, the Commission has limited the application of its' tariff rules to interstate access services provided by non-dominant local exchange carriers. The Seventh Report and Order was approved in June 2001 from the Office of Management and Budget (OMB) under emergency processing procedures. This submission is being made to obtain the full-three year OMB approval.

Federal Communications Commission.
Magalie Roman Salas,
Secretary.

[FR Doc. 01-31414 Filed 12-20-01; 8:45 am]

BILLING CODE 6712-01-P